DEPARTMENT OF COMMERCE

National Oceanic and Atmospheric Administration

50 CFR Parts 600 and 660

[Docket No. 001226367-0367-01; I.D. 1215OOE]

Magnuson-Stevens Act Provisions; Foreign Fishing; Fisheries off West Coast States and in the Western Pacific; Pacific Coast Groundfish Fishery; Annual Specifications and Management Measures; Corrections

AGENCY: National Marine Fisheries Service (NMFS), National Oceanic and Atmospheric Administration (NOAA), Commerce.

ACTION: Corrections to the 2001 specifications for the Pacific Coast groundfish fishery.

SUMMARY: This document contains corrections to the 2001 groundfish fishery specifications and management measures for the Pacific Coast groundfish fishery, which were published on January 11, 2001.

DATES: Effective Febraury 14, 2001.

FOR FURTHER INFORMATION CONTACT: Yvonne deReynier or Becky Renko, NMFS, (206) 526-6140.

SUPPLEMENTARY INFORMATION:

Background

The 2001 fishery specifications and management measures for groundfish taken in the U.S. exclusive economic zone and state waters off the coasts of Washington, Oregon, and California, as authorized by the Pacific Coast Groundfish Fishery Management Plan, were published in the Federal Register on January 11, 2001 (66 FR 2338). The specifications contained a number of errors that need to be corrected.

Corrections

In the rule FR Doc. 01-560, in the issue of Thursday, January 11, 2001 (66 FR 2338), make the following corrections:

1. On page 2359, in the third column, the first five lines of paragraph IV.A (6)(e)(ii), and paragraph IV.A (6)(e)(ii)(A) are corrected to read as follows: “used. To determine the round weight, multiply the processed weight times the conversion factor.

(A) Headed and gutted. The conversion factor for headed and gutted lingcod is 1.5.”

2. On page 2362 in the second and third columns, paragraphs IV.A. (20)(i) and (ii) are corrected to read as follows:

“(i) The western CCA is an area south of Point Conception that is bound by straight lines connecting all of the following points in the order listed:

33°50′ N. lat., 119°30′ W. long.;

33°50′ N. lat., 118°50′ W. long.;

32°20′ N. lat., 118°50′ W. long.;

32°20′ N. lat., 119°30′ W. long.;

33°00′ N. lat., 119°30′ W. long.;

33°00′ N. lat., 119°50′ W. long.;

33°30′ N. lat., 119°50′ W. long.;

33°30′ N. lat., 119°30′ W. long.;

and connecting back to 33°50′ N. lat, 119°30 W. long”.

“(ii) The Eastern CCA is a smaller area west of San Diego that is bound by straight lines connecting all of the following points in the order listed:

32°40′ N. lat., 118°00′ W. long.;

32°40′ N. lat., 117°50′ W. long.;

32°30′ N. lat., 117°50′ W. long.;

32°30′ N. lat., 118°00′ W. long.;

and connecting back to 32°40′ N. lat., 118°00′ W. long”.

3. On page 2363, in the first column at the bottom of the page, insert “B.” before “Limited Entry Fishery”.

4. Tables 3 and 4 on pages 2365-2366 are corrected to read as follows:

BILLING CODE 3510-22-S

Dated: February 7, 2001.
William T. Hogarth,
Acting Assistant Administrator for Fisheries, National Marine Fisheries Service.

[FR Doc. 01-3771 Filed 2-13-01; 8:45 am]

BILLING CODE 3510-22-C